DEPARTMENT OF HOMELAND SECURITY

48 CFR Parts 3001, 3002, 3004, 3024, 3039 and 3052

[Docket No. DHS-2017-0006, DHS-2017-0007, DHS-2017-0008]

RIN 1601-AA76; 1601-AA78; 1601-AA79

Homeland Security Acquisition Regulation (HSAR); Safeguarding of Controlled Unclassified Information (HSAR Case 2015-001); Information Technology Security Awareness Training (HSAR Case 2015-002); Privacy Training (HSAR Case 2015-003)—Extension of Comment Periods

AGENCY: Office of the Chief Procurement Officer, Department of Homeland Security (DHS).

ACTION: Notice of proposed rulemaking; extension of comment period.

SUMMARY: DHS is extending the comment periods for the following three notices of proposed rulemaking (proposed rules) published on January 19, 2017: “Safeguarding of Controlled Unclassified Information,” “Information Technology Security Awareness Training,” and “Privacy Training.” DHS is extending the comment period by 30 days to ensure the public has sufficient time to review and provide comment on these proposed rules.

DATES: The comment periods for the proposed rules published in the Federal Register of January 19, 2017 (81 FR 6425, 81 FR 6429, and 81 FR 6446), are extended. Comments on the proposed rules should be submitted in writing to one of the addresses shown below on or before April 19, 2017.

ADDRESSES: Submit comments identified by HSAR Case 2015-001, Safeguarding of Controlled Unclassified Information; HSAR Case 2015-002, Information Technology Security Awareness Training; and HSAR Case 2015-003, Privacy Training using any of the following methods:

• Regulations.gov: http://www.regulations.gov.

• Fax: (202) 447-0520.

• Mail: Department of Homeland Security, Office of the Chief Procurement Officer, Acquisition Policy and Legislation, ATTN: Ms. Candace Lightfoot, 245 Murray Drive, Bldg. 410 (RDS), Washington, DC 20528.

Comments received generally will be posted without change to http://www.regulations.gov, including any personal information provided. To confirm receipt of your comment(s), please check www.regulations.gov, approximately two to three days after submission to verify posting (except allow 30 days for posting of comments submitted by mail).

To avoid duplication, please use only one of these three methods. See the “Public Participation and Request for Comments” portion of the SUPPLEMENTARY INFORMATION section below for instructions on submitting comments.

FOR FURTHER INFORMATION CONTACT: Ms. Candace Lightfoot, Procurement Analyst, DHS, Office of the Chief Procurement Officer, Acquisition Policy and Legislation at (202) 447-0882 or email HSAR@hq.dhs.gov. When using email, include HSAR Case 2015-001, HSAR Case 2015-002, or HSAR Case 2015-003 in the “Subject” line.

SUPPLEMENTARY INFORMATION:

I. Public Participation and Request for Comments

We encourage you to participate in this rulemaking by submitting comments and related materials. All comments received will be posted without change to http://www.regulations.gov and will include any personal information you have provided.

A. Submitting Comments

If you submit a comment, please include the docket number for the applicable rulemaking (DHS-2017-0006, DHS-2017-0007, or DHS-2017-0008), indicate the specific section of each document to which each comment applies, and provide a reason for each suggestion or recommendation. You may submit your comments and material online, by fax or mail, but please use only one of these means. We recommend that you include your name and a mailing address, an email address, or a phone number in the body of your document so that we can contact you if we have questions regarding your submission.

To submit your comment online, go to http://www.regulations.gov and insert the applicable docket number (DHS-2017-0006, DHS-2017-0007, or DHS-2017-0008) in the “Search” box. Click on “Submit a Comment” in the “Actions” column. If you submit your comments by mail, submit them in an unbound format, no larger than 8½ by 11 inches, suitable for copying and electronic filing. If you submit comments by mail and would like to know that they reached the Facility, please enclose a stamped, self-addressed postcard or envelope. We will consider all comments and material received during the comment period and may change the proposed rules based on your comments.

B. Viewing Comments and Documents

To view comments, as well as documents mentioned in this preamble as being available in the docket, go to http://www.regulations.gov and insert the applicable docket number (DHS-2017-0006, DHS-2017-0007, or DHS-2017-0008) in the “Search” box. Click “Search.” Click the “Open Docket Folder” in the “Actions” column.

II. Regulatory History and Information

On January 19, 2017, DHS published the following three proposed rules: “Safeguarding of Controlled Unclassified Information (HSAR Case 2015-001),” “Information Technology Security Awareness Training (HSAR Case 2015-002),” and “Privacy Training (HSAR Case 2015-003)” (82 FR 6429, 82 FR 6446, and 82 FR 6425 respectively). The three rules propose to amend the HSAR in the following ways: (1) Ensure contractors understand their responsibilities with regard to safeguarding controlled unclassified information (CUI); (2) ensure contractor and subcontractor employees complete information technology (IT) security awareness training before DHS provides them with access to DHS information systems and information resources or contractor-owned and/or operated information systems and information resources where CUI is collected, processed, stored or transmitted on behalf of the agency; (3) ensure that contractor and subcontractor employees sign the DHS Rules of Behavior before DHS provides them with access to DHS information systems, information resources, or contractor-owned and/or operated information systems and information resources where CUI is collected, processed, stored or transmitted on behalf of the agency; and (4) ensure contractor and subcontractor employees complete privacy training before accessing a Government system of records; handling personally identifiable information (PII) and/or sensitive PII information; or designing, developing, maintaining, or operating a system of records on behalf of the Government.

Comments on these proposed rules were originally due by March 20, 2017. However, a number of parties have requested additional time to review the proposed rules and submit comments. Thus, to ensure the public has sufficient time to review the proposed rules and submit comments, DHS is extending the comment periods by 30 days.

Dennis Smiley,
Deputy Chief Procurement Officer, Department of Homeland Security.

[FR Doc. 2017-05510 Filed 3-17-17; 8:45 am]

BILLING CODE 9110-9B-P